DEPARTMENT OF COMMERCE

Patent and Trademark Office

Agency Information Collection Activities; Submission to the Office of Management and Budget (OMB) for Review and Approval; Comment Request; Trademark Submissions Regarding Correspondence and Regarding Attorney Representation

AGENCY: United States Patent and Trademark Office, Department of Commerce.

ACTION: Notice of information collection; request for comment.

SUMMARY: The United States Patent and Trademark Office (USPTO), as required by the Paperwork Reduction Act of 1995, invites comments on the extension and revision of an existing information collection: 0651-0056 (Trademark Submissions Regarding Correspondence and Regarding Attorney Representation). The purpose of this notice is to allow 60 days for public comment preceding submission of the information collection to OMB.

DATES: To ensure consideration, comments regarding this information collection must be received on or before June 17, 2024.

ADDRESSES: Interested persons are invited to submit written comments by any of the following methods. Do not submit Confidential Business Information or otherwise sensitive or protected information.

• Email: InformationCollection@uspto.gov. Include “0651-0056 comment” in the subject line of the message.

• Federal eRulemaking Portal: http://www.regulations.gov.

• Mail: Justin Isaac, Office of the Chief Administrative Officer, United States Patent and Trademark Office, P.O. Box 1450, Alexandria, VA 22313-1450.

FOR FURTHER INFORMATION CONTACT: Request for additional information should be directed to Catherine Cain, Attorney Advisor, United States Patent and Trademark Office, P.O. Box 1450, Alexandria, VA 22313-1450; by telephone at 571-272-8946; or by email at Catherine.Cain@uspto.gov with “0651-0056 comment” in the subject line. Additional information about this information collection is also available at http://www.reginfo.gov under “Information Collection Review.”

SUPPLEMENTARY INFORMATION:

I. Abstract

The United States Patent and Trademark Office (USPTO) administers the Trademark Act (Act), 15 U.S.C 1051 et seq., which provides for the Federal registration of trademarks, service marks, collective trademarks and service marks, collective membership marks, and certification marks. Individuals and businesses that use or intend to use such marks in commerce may file an application to register their marks with the USPTO.

Such individuals and businesses may also submit various communications to the USPTO regarding their pending applications or registered trademarks, including providing additional information needed to process a pending application, filing amendments to the application, or filing the papers necessary to keep a trademark in force. In the majority of circumstances, individuals and businesses retain attorneys to handle these matters. As such, these parties may also submit communications to the USPTO regarding the appointment of attorneys to represent applicants or registrants in the application or post-registration processes or, in the case of applicants or registrants who are not domiciled in the United States, the appointment of domestic representatives on whom may be served notices of process in proceedings affecting the mark, the revocation of an attorney's or domestic representative's appointment, and requests for permission to withdraw from representation.

The regulations implementing the Act are set forth in 37 CFR part 2. Regulations regarding representation of others before the USPTO are also set forth in 37 CFR part 11. In addition to governing the registration of trademarks, the Act and regulations govern the appointment and revocation of attorneys and domestic representatives and provide the specifics for filing requests for permission to withdraw as the attorney of record. The information in this information collection is available to the public.

This information collection covers various actions concerning the appointment and retention of attorneys and domestic representatives in trademark registrations. The information in this collection is also a matter of public record and is utilized by the public for a variety of private business purposes related to establishing and enforcing trademark rights.

II. Method of Collection

Items in this information collection must be submitted electronically. In limited circumstances, applicants may be permitted to submit the information in paper form by mail, fax, or hand delivery.

III. Data

OMB Control Number: 0651-0056.

Forms:

• PTO-2201 (Request for Withdrawal as Attorney of Record/Update of USPTO's Database After Power of Attorney Ends)

• PTO-2300 (Change Address or Representation Form)

Type of Review: Extension and revision of a currently approved information collection.

Affected Public: Private sector.

Respondent's Obligation: Required to obtain or retain benefits.

Estimated Number of Annual Respondents: 486,000 respondents.

Estimated Number of Annual Responses: 486,000 responses.

Frequency: On occasion.

Estimated Time per Response: The USPTO estimates that the responses in this information collection will take the public approximately between 15 minutes (0.25 hours) and 1 hour to complete. This includes the time to gather the necessary information, prepare the appropriate documents, and submit the completed request to the USPTO.

Estimated Total Annual Respondent Burden Hours: 156,650 hours.

Estimated Total Annual Respondent Hourly Cost Burden: $70,022,550.

Table 1—Total Burden Hours and Hourly Costs to Private Sector Respondents
Item No. | Item | Estimated annual respondents | Responses per respondent | Estimated annual responses | Estimated time for response (hours) | Estimated burden (hour/year) | Rate ¹ ($/hour) | Estimated annual respondent cost burden
|  | (a) | (b) | (a) × (b) = (c) | (d) | (c) × (d) = (e) | (f) | (e) × (f) = (g)
1 | Revocation, Appointment, and/or Change of Address of Attorney/Domestic Representative—PTO-2300 | 430,000 | 1 | 430,000 | 0.33 (20 minutes) | 141,900 | $447 | $63,429,300
2 | Request for Withdrawal as Attorney of Record/Update of USPTO's Database After Power of Attorney Ends—PTO-2201 | 45,000 | 1 | 45,000 | 0.25 (15 minutes) | 11,250 | 447 | 5,028,750
3 | Replacement of Attorney of Record with Another Already-Appointed Attorney—PTO-2300 | 1,000 | 1 | 1,000 | 1 | 1,000 | 447 | 447,000
4 | Request to Withdraw as Domestic Representative—PTO-2300 | 10,000 | 1 | 10,000 | 0.25 (15 minutes) | 2,500 | 447 | 1,117,500
| Totals | 486,000 |  | 486,000 |  | 156,650 |  | 70,022,550
¹ 2023 Report of the Economic Survey, published by the Committee on Economics of Legal Practice of the American Intellectual Property Law Association (AIPLA); pg. F-41. The USPTO uses the average billing rate for intellectual property work in all firms which is $447 per hour (https://www.aipla.org/home/news-publications/economic-survey).

Estimated Total Annual Respondent Non-hourly Cost Burden: $508. There are no capital start-up, maintenance costs, recordkeeping costs, or filing fees associated with this information collection. However, USPTO estimates that the total annual (non-hour) cost burden for this information collection, in the form of postage is $508.

Postage Costs: In limited circumstances, applicants may be permitted to submit the information in paper form by mail, fax, or hand delivery. Applicants and registrants incur postage costs when submitting information to the USPTO by mail through the United States Postal Service. The USPTO estimates that 50 of the items in this information collection will submitted via mail. The USPTO estimates that the average postage cost for a mailed submission, using a Priority Mail legal flat rate envelope, will be $10.15. Therefore, the USPTO estimates the total mailing costs for this information collection at $508.

IV. Request for Comments

The USPTO is soliciting public comments to:

(a) Evaluate whether the collection of information is necessary for the proper performance of the functions of the Agency, including whether the information will have practical utility;

(b) Evaluate the accuracy of the Agency's estimate of the burden of the collection of information, including the validity of the methodology and assumptions used;

(c) Enhance the quality, utility, and clarity of the information to be collected; and

(d) Minimize the burden of the collection of information on those who are to respond, including through the use of appropriate automated, electronic, mechanical, or other technological collection techniques or other forms of information technology, e.g., permitting electronic submission of responses.

All comments submitted in response to this notice are a matter of public record. USPTO will include or summarize each comment in the request to OMB to approve this information collection. Before including an address, phone number, email address, or other personally identifiable information (PII) in a comment, be aware that the entire comment—including PII—may be made publicly available at any time. While you may ask in your comment to withhold PII from public view, USPTO cannot guarantee that it will be able to do so.

Justin Isaac,
Information Collections Officer, Office of the Chief Administrative Officer, United States Patent and Trademark Office.

[FR Doc. 2024-08089 Filed 4-16-24; 8:45 am]

BILLING CODE 3510-16-P